DEPARTMENT OF COMMERCE

International Trade Administration

[C-570-050]

Ammonium Sulfate From the People's Republic of China: Final Results of the Expedited First Sunset Review of the Countervailing Duty Order

AGENCY: Enforcement and Compliance, International Trade Administration, Department of Commerce.

SUMMARY: As a result of this expedited sunset review, the U.S. Department of Commerce (Commerce) finds that revocation of the countervailing duty (CVD) order on ammonium sulfate from the People's Republic of China (China) would likely lead to the continuation or recurrence of countervailing subsidies at the levels indicated in the “Final Results of Review” section of this notice.

DATES: Applicable June 8, 2022.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On May 9, 2017, Commerce published the CVD order on imports of ammonium sulfate from China.¹ On February 1, 2022, Commerce published the notice of initiation of the first sunset review of the Order pursuant to section 751(c) of the Tariff Act of 1930, as amended (the Act).² On February 14, 2022, Commerce received a notice of intent to participate, within the 15-day deadline specified in 19 CFR 351.218(d)(1)(i), from the Committee for Fair Trade in Ammonium Sulfate, an association of AdvanSix Inc. and PCI Nitrogen, LLC (collectively, the domestic interested party).³ The domestic interested party claimed interested party status under section 771(9)(C) and (E) of the Act, as manufacturers in the United States of the domestic like product.⁴ On February 25, 2022, Commerce received a timely and adequate substantive response to the notice of initiation from the domestic interested party within the 30-day deadline specified in 19 CFR 351.218(d)(3)(i).⁵ Commerce received no substantive responses from any other interested parties.

¹ See Ammonium Sulfate from the People's Republic of China: Antidumping Duty and Countervailing Duty Orders, 82 FR 13094 (March 9, 2017) (Order).

² See Initiation of Five-Year (Sunset) Reviews, 87 FR 5467 (February 1, 2022) (Initiation Notice).

³ See Domestic Interested Party's Letter, “Five-Year (“Sunset”) Review of Countervailing Duty Order on Ammonium Sulfate from The People's Republic of China: Domestic Interested Party's Notice of Intent to Participate,” dated February 14, 2022.

⁴ Id. at 2.

⁵ See Domestic Interested Party's Letter, “Five-Year (“Sunset”) Review of Countervailing Duty Order on Ammonium Sulfate from the People's Republic of China: Domestic Interested Party's Substantive Response to Notice of Initiation,” dated February 25, 2022.

On March 21, 2022, Commerce notified the U.S. International Trade Commission that we did not receive an adequate substantive response from the Government of China or from respondent interested parties.⁶ As a result, pursuant to section 751(c)(3)(B) of the Act and 19 CFR 351.218(e)(1)(ii)(B)-(C), Commerce conducted an expedited (120-day) sunset review of the Order.

⁶ See Commerce's Letter, “Sunset Reviews Initiated on February 1, 2022,” dated March 21, 2022.

Scope of the Order

The merchandise covered by the Order is ammonium sulfate. For a complete description of the scope of the Order, see Issues and Decision Memorandum signed concurrently with this notice.⁷

⁷ See Memorandum, “Issues and Decision Memorandum for the Final Results of the Expedited First Sunset Review of the Antidumping Duty Order on Ammonium Sulfate from the People's Republic of China,” dated concurrently with, and hereby adopted by, this notice (Issues and Decision Memorandum).

Analysis of Comments Received

All issues raised in this sunset review are addressed in the accompanying Issues and Decision Memorandum.⁸ The issues discussed in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁸ Id.

Final Results of Sunset Review

Pursuant to sections 751(c)(1) and 752(b) of the Act, Commerce determines that revocation of the Order would be likely to lead to the continuation or recurrence of countervailable subsidies at the rates listed below.

Exporter/producer | Subsidy rate (percent)
Wuzhoufeng Agricultural Science & Technology Co. Ltd * | 206.72
Yantai Jiahe Agriculture Means of Production Co. Ltd * | 206.72
All Others | 206.72
* Non-cooperative company to which an adverse facts available rate was applied.

Administrative Protective Order (APO)

This notice also serves as the only reminder to parties subject to an APO of their responsibility concerning the return or destruction of proprietary information disclosed under APO in accordance with 19 CFR 351.305. Timely written notification of the return or destruction of APO materials or conversion to judicial protective orders is hereby requested. Failure to comply with the regulations and terms of an APO is a violation which is subject to sanction.

Notification to Interested Parties

We are issuing and publishing these final results and this notice in accordance with sections 751(c), 752(b), 771(i)(1) of the Act, and 19 CFR 351.218(e)(1)(ii)(C)(2) and 351.221(c)(5).

Dated: June 1, 2022.
Lisa Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rate Likely to Prevail

3. Nature of the Subsidies

VII. Final Results of Sunset Review

VIII. Recommendation

[FR Doc. 2022-12315 Filed 6-7-22; 8:45 am]

BILLING CODE 3510-DS-P